DEPARTMENT OF VETERANS AFFAIRS

Privacy Act of 1974; Report of Amended Matching Program

AGENCY: Department of Veterans Affairs.

ACTION: Notice.

SUMMARY: Notice is hereby given that the Department of Veterans Affairs (VA) intends to conduct a recurring computer program matching Social Security Administration (SSA) records with VA compensation, pension and dependency and indemnity compensation (DIC) records.

The goal of this match is to provide VA with information to identify those who are confined for a period exceeding 60 days due to a conviction for a felony or misdemeanor. VA has the obligation to reduce or suspend compensation, pension, and dependency and indemnity compensation benefit payments to veterans and VA beneficiaries on the 61st day following conviction and incarceration in a Federal, State, or local institution for a felony or misdemeanor. Veterans Benefits Administration also has the obligation to reduce educational assistance to any recipient who is incarcerated for a felony conviction.

VA plans to match records of VA beneficiaries with those reported by SSA as being incarcerated and to adjust their VA benefits accordingly. VA will use the SSA records provided in the match to update the master records of VA beneficiaries and to adjust their VA benefits, accordingly, if needed.

RECORDS TO BE MATCHED: The VA records involved in the match are the VA system of records, Compensation, Pension, Education and Rehabilitation Records—VA (58 VA 21/22) first published at 41 FR 9294, March 3, 1976 and last amended at 63 FR 37941 (July 14, 1998). SSA's system of records and corresponding routine uses allowing the release of records for this purpose are the Master Beneficiary Record, SSA/OSR, 09-60-0090, Routine Use Number 24; Supplemental Security Income Record, SSA/OSR, 09-60-0103, Routine Use Number 19; Master Files of Social Security Number (SSN) Holders and SSN Applications SSA/OSR, 09-60-0058, Routine Use Number 15 (sub-systems are also referred to as the Enumeration Verification System (EVS), the Alphident or the NUMIDENT), Prisoner Update Payment System (PUPS) and the Incarceration Report Control System (IRCS). For each aspect of this program, the EVS will be accessed. In accordance with Title 5 U.S.C. subsection 552a(o)(2) and (r), copies of the agreement are being sent to both Houses of Congress and to the Office of Management and Budget (OMB).

This notice is provided in accordance with the provisions of the Privacy Act of 1974 as amended by Public Law 100-503.

DATES: The match will start no sooner than April 12, 2000, and end not more than 18 months after the agreement is properly implemented by the parties. The involved agencies' Data Integrity Boards (DIB) may extend this match for 12 months provided the agencies certify to their DIBs within three months of the ending date of the original match that the matching program will be conducted without change and that the matching program has been conducted in compliance with the original matching program.

ADDRESSES: Interested individuals may submit written comments to the Director, Office of Regulations Management (02D), Department of Veterans Affairs, 810 Vermont Avenue, NW, Room 1154, Washington, DC 20420. Comments will be available for public inspection at the above address in the Office of Regulations Management, Room 1158, between 8:00 a.m. and 4:30 p.m., Mondays through Fridays, except holidays.

FOR FURTHER INFORMATION CONTACT: Kathleen Grill (212), (202) 273-7234.

SUPPLEMENTARY INFORMATION: This information is required by Title 5 U.S.C. subsection 552a(e)(12), the Privacy Act of 1974. A copy of this notice has been provided to both Houses of Congress and OMB.

Approved: February 28, 2000.
Togo D. West, Jr.,
Secretary of Veterans Affairs.

[FR Doc. 00-6067 Filed 3-10-00; 8:45 am]

BILLING CODE 8320-01-U